DEPARTMENT OF JUSTICE

Notice of Lodging of Proposed Consent Decree Under the Clean Water Act

On February 2, 2016, the Department of Justice lodged a proposed consent decree with the United States District Court for the District of Utah in the lawsuit entitled United States and State of Utah v. Salt Lake County, Utah, Civil Action No. 2:16cv87BCW.

The United States filed this lawsuit under the Clean Water Act. The complaint seeks injunctive relief and civil penalties. The complaint alleges that the defendant violated the Clean Water Act by failing to comply with the terms and conditions of a National Pollutant Discharge Elimination System (“NPDES”) permit, issued to the County for discharges of storm water from the County's municipal separate storm sewer system (“MS4”). The consent decree requires the defendant to perform injunctive relief to bring it into compliance with its NPDES permit and to pay a $280,000 civil penalty.

The publication of this notice opens a period for public comment on the consent decree. Comments should be addressed to the Assistant Attorney General, Environment and Natural Resources Division, and should refer to United States and State of Utah v. Salt Lake County, Utah, D.J. Ref. No. 90-5-1-1-10984. All comments must be submitted no later than thirty (30) days after the publication date of this notice. Comments may be submitted either by email or by mail:

To submit comments: | Send them to:
By e-mail | pubcomment-ees.enrd@usdoj.gov.
By mail | Assistant Attorney General, U.S. DOJ—ENRD, P.O. Box 7611, Washington, DC 20044-7611.

During the public comment period, the consent decree may be examined and downloaded at this Justice Department Web site: http://www.justice.gov/enrd/consent-decrees. We will provide a paper copy of the consent decree upon written request and payment of reproduction costs. Please mail your request and payment to: Consent Decree Library, U.S. DOJ—ENRD, P.O. Box 7611, Washington, DC 20044-7611.

Please enclose a check or money order for $11.50 (25 cents per page reproduction cost) payable to the United States Treasury.

Robert Brook,
Assistant Section Chief, Environmental Enforcement Section, Environment and Natural Resources Division.

[FR Doc. 2016-02474 Filed 2-8-16; 8:45 am]

BILLING CODE 4410-15-P